DEPARTMENT OF VETERANS AFFAIRS

[OMB Control No. 2900-0696]

Agency Information Collection Activity Under OMB Review: Availability of Educational, Licensing, and Certification Records

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden.

DATES: Written comments and recommendations for the proposed information collection should be sent within 30 days of publication of this notice to www.reginfo.gov/public/do/PRAMain. Find this particular information collection by selecting “Currently under 30-day Review—Open for Public Comments” or by using the search function. Refer to “OMB Control No. 2900-0696.

SUPPLEMENTARY INFORMATION:

Authority: 10 U.S.C. 16136; 38 U.S.C. 3034, 3241, 3323, 3689, 3690.

Title: Availability of Educational, Licensing, and Certification Records.

OMB Control Number: 2900-0696.

Type of Review: Revision of a currently approved collection.

Abstract: VA uses this information to decide whether beneficiaries of educational assistance have been properly paid, and whether educational institutions and organizations or entities offering approved licensing and certification tests are following the applicable sections of the U.S. Code.

An agency may not conduct or sponsor, and a person is not required to respond to a collection of information unless it displays a currently valid OMB control number. The Federal Register Notice with a 60-day comment period soliciting comments on this collection of information was published at 85 FR 48 on March 11, 2020, pages 14291 & 14292.

Affected Public: Educational Institutions and Organizations.

Estimated Annual Burden: 9,858 hours.

Estimated Average Burden Per Respondent: 5 hours (300 minutes).

Frequency of Response: On Occasion.

Actual Number of Respondents: 4,929.

By direction of the Secretary.
Danny S. Green,
VA Clearance Officer, Office of Quality, Performance and Risk, Department of Veterans Affairs.

[FR Doc. 2020-11817 Filed 6-1-20; 8:45 am]

BILLING CODE 8320-01-P